DEPARTMENT OF ENERGY

10 CFR Part 810

RIN 1994-AA02

Assistance to Foreign Atomic Energy Activities

AGENCY: National Nuclear Security Administration, Department of Energy (DOE).

ACTION: Notice of a public meeting and extension of deadline for public comment.

SUMMARY: On September 7, 2011, DOE published its proposal to amend its regulations concerning unclassified assistance to foreign atomic energy activities. Today, DOE announces its intention to hold one informational Webinar on the proposed amendment to the regulations. Additionally, by this notice DOE is extending by 30 days the deadline for public comment.

DATES: The Webinar will take place on Wednesday, November 2, 2011 from 10 a.m. to 11:30 a.m. EST. Public comments are due not later than December 7, 2011.

ADDRESSES: U.S. Department of Energy, 1000 Independence Ave., SW., Washington, DC 20585.

To participate in the Webinar, please register by sending an e-mail to NISPublications@battelle.org. Please include in the subject line of the e-mail “DOE Webinar November 2”. In the body of the e-mail, please provide the registrant's name, affiliation, e-mail address, mailing address, and telephone number. Please submit your e-mail registration by noon EST on November 1, 2011. Registration will open at 9 a.m. EST on Friday, October 28, 2011.

You may submit written comments, identified by RIN 1994-AA02, by any of the following methods:

1. Federal eRulemaking Portal: http://www.regulations.gov. Follow the instructions for submitting comments.

2. E-mail: Port810.NOPR@hq.doe.gov Include RIN 1994-AA02 in the subject line of the message.

3. Mail: Richard Goorevich, Senior Policy Advisor, Office of Nonproliferation and International Security, NA-24, National Nuclear Security Administration, Department of Energy, 1000 Independence Avenue, SW., Washington, DC 20585.

Due to potential delays in DOE's receipt and processing of mail sent through the U.S. Portal Service, DOE encourages responders to submit comments electronically to ensure timely receipt.

All submissions must include the RIN for this rulemaking, RIN 1994-AA02. For detailed instructions on submitting comments and additional information on the rulemaking process, see the “Public Comment Procedures” heading of the SUPPLEMENTARY INFORMATION section of the September 7, 2011, Notice of Proposed Rulemaking (76 FR 55278).

FOR FURTHER INFORMATION CONTACT: Richard Goorevich, National Nuclear Security Administration, U.S. Department of Energy, Office of Defense Nuclear Nonproliferation (NA-20), Office of Nonproliferation and International Security (NA-24), 1000 Independence Avenue, Washington, DC 20585. Telephone: (202) 586-0589. E-mail: Richard.Goorevich@nnsa.doe.gov.

SUPPLEMENTARY INFORMATION: Background: On September 7, 2011, DOE published its proposal to amend its regulation concerning unclassified assistance to foreign atomic energy activities (76 FR 55278). This regulation provides that persons subject to the jurisdiction of the United States who engage directly or indirectly in the production of special nuclear material outside the United States must be authorized to do so by the Secretary of Energy pursuant to section 57 b.(2) of the Atomic Energy Act of 1954, as amended. The proposed revisions update and clarify several provisions in the current regulation, and identify information that applicants are required to submit in support of applications for an authorization under this Part. The revisions are intended to reduce uncertainties for industry users concerning which foreign nuclear-related activities by U.S. persons are “generally authorized” under the regulation and which activities require a “specific authorization” from the Secretary.

Purpose of the Meeting: To provide an overview of proposed changes and to conduct Q&A session with industry with respect to the proposed rulemaking.

Tentative Agenda: The Webinar will be conducted on November 2, 2011, from 10 am to 11:30 am EST. All prospective registrants will be notified by the agency via e-mail with respect to Webinar logon information. Webinar materials will be transmitted to registrants via e-mail.

Public Participation: To participate in the Webinar, please register by sending an e-mail to NISPublications@battelle.org. Please include in the subject line of the e-mail “DOE Webinar November 2”. In the body of the e-mail, please provide the registrant's name, affiliation, e-mail address, mailing address, and telephone number. Please submit your e-mail registration by noon EST on November 1, 2011. Registration will open at 9 a.m. EST on Friday, October 28, 2011. Registration is limited to 125 registrants.

Please note that comments on the proposed rulemaking will not be accepted during the Webinar. Instead, the public has an opportunity to comment formally on the proposed rulemaking as provided in the Federal Register on September 7, 2011 (76 FR 55278). By this notice, DOE is extending by 30 days the deadline for comments, with the final deadline for DOE receiving comments now being December 7, 2011. Participation in the Webinar is not a prerequisite for submission of written comments.

Registrants are responsible for ensuring their systems are compatible with Webinar software.

Issued in Washington, DC on October 18, 2011.
Anne Harrington,
Deputy Administrator for Defense Nuclear Nonproliferation, National Nuclear Security Administration, U.S. Department of Energy.

[FR Doc. 2011-27439 Filed 10-21-11; 8:45 am]

BILLING CODE 6450-01-P